DEPARTMENT OF TRANSPORTATION

Federal Aviation Administration

14 CFR Part 39

[Docket No. 2002-CE-46-AD; Amendment 39-13038; AD 2003-03-14]

RIN 2120-AA64

Airworthiness Directives; Piaggio Aero Industries S.p.A. Model P-180 Airplanes

AGENCY: Federal Aviation Administration, DOT.

ACTION: Final rule.

SUMMARY: This amendment adopts a new airworthiness directive (AD) that applies to all Piaggio Aero Industries S.p.A. (Piaggio) Model P-180 airplanes. This AD requires you to inspect and determine whether any firewall shutoff or crossfeed valve with a serial number in a certain range is installed and requires you to replace any valve that has a serial number within this range. This AD allows the pilot to check the logbook and does not require the inspection and replacement requirement if the check shows that one of these valves is definitely not installed. This AD is the result of mandatory continuing airworthiness information (MCAI) issued by the airworthiness authority for Italy. The actions specified by this AD are intended to prevent a faulty firewall shutoff or crossfeed valve from developing cracks and leaking fuel. This could result in an engine fire.

DATES: This AD becomes effective on March 8, 2003.

The Director of the Federal Register approved the incorporation by reference of certain publications listed in the regulations as of March 8, 2003.

ADDRESSES: You may get the service information referenced in this AD from Piaggio Aero Industries S.p.A, Via Cibrario 4, 16154 Genoa, Italy; telephone: +39 010 6481 856; facsimile: +39 010 6481 374. You may view this information at the Federal Aviation Administration (FAA), Central Region, Office of the Regional Counsel, Attention: Rules Docket No. 2002-CE-46-AD, 901 Locust, Room 506, Kansas City, Missouri 64106; or at the Office of the Federal Register, 800 North Capitol Street, NW., suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What events have caused this AD? The Ente Nazionale per l' Aviazione Civile (ENAC), which is the airworthiness authority for Italy, recently notified FAA that an unsafe condition may exist on all Piaggio Model P-180 airplanes. The ENAC reports an incident of a ground fire on the left-hand engine nacelle of one of the affected airplanes. Investigation revealed that the fire was caused by a cracked crossfeed valve that had leaked fuel.

Further analysis led the ENAC to determine that the part number (P/N) EM484-3 valve was part of a manufacturing batch of nonconforming valves. This batch incorporates serial numbers 148 through 302 of these P/N EM484-3 valves. These valves can be utilized as either firewall shutoff or crossfeed valves.

What is the potential impact if FAA took no action? If these valves are not removed from service, they could develop cracks and leak fuel. This could result in an engine fire.

Has FAA taken any action to this point? We issued a proposal to amend part 39 of the Federal Aviation Regulations (14 CFR part 39) to include an AD that would apply to all Piaggio Model P-180 airplanes. This proposal was published in the Federal Register as a notice of proposed rulemaking (NPRM) on November 13, 2002 (67 FR 68782). The NPRM proposed to require you to inspect and determine whether any firewall shutoff or crossfeed valve with a serial number in a certain range is installed and would require you to replace any valve that has a serial number within this range. The NPRM would allow the pilot to check the logbook and would not require the inspection and replacement requirements if the check showed that one of these valves was definitely not installed.

Was the public invited to comment? The FAA encouraged interested persons to participate in the making of this amendment. We did not receive any comments on the proposed rule or on our determination of the cost to the public.

FAA's Determination

What is FAA's final determination on this issue? After careful review of all available information related to the subject presented above, we have determined that air safety and the public interest require the adoption of the rule as proposed except for minor editorial corrections. We have determined that these minor corrections:

• Provide the intent that was proposed in the NPRM for correcting the unsafe condition; and

• Do not add any additional burden upon the public than was already proposed in the NPRM.

Cost Impact

How many airplanes does this AD impact? We estimate that this AD affects 22 airplanes in the U.S. registry.

What is the cost impact of this AD on owners/operators of the affected airplanes? We estimate the following costs to accomplish the inspection:

Labor cost | Parts cost | Total cost per airplane | Total cost on U.S. operators
2 workhours × $60 per hour = $120 | Not applicable | $120 | $2,640.

We estimate the following costs to accomplish the replacement/modification:

Labor cost | Parts cost | Total cost per airplane
8 workhours × $60 per hour = $480 | Manufacturer will provide free of charge | $480.

Compliance Time of this AD

What will be the compliance time of this AD? The inspection compliance time of this AD is “within the next 30 days after the effective date of the AD.”

Why is the compliance time presented in calendar time instead of hours time-in-service (TIS)? The compliance of this AD is presented in calendar time instead of hours TIS because the affected shutoff and crossfeed valves are unsafe as a result of a quality control problem. The problem has the same chance of existing on an airplane with 50 hours TIS as it would for an airplane with 1,000 hours TIS. Therefore, we believe that a compliance time of 30 days will:

• Ensure that the unsafe condition does not go undetected for a long period of time on the affected airplanes; and

• Not inadvertently ground any of the affected airplanes.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-03-14 Piaggio Aero Industries S.p.A.: Amendment 39-13038; Docket No. 2002-CE-46-AD.

(a) What airplanes are affected by this AD? This AD affects Model P-180 airplanes, all serial numbers, that are certificated in any category.

(b) Who must comply with this AD? Anyone who wishes to operate any of the airplanes identified in paragraph (a) of this AD must comply with this AD.

(c) What problem does this AD address? The actions specified by this AD are intended to prevent a faulty firewall shutoff or crossfeed valve from developing cracks and leaking fuel. This could result in an engine fire.

(d) What actions must I accomplish to address this problem? To address this problem, you must accomplish the following:

Actions | Compliance | Procedures
(1) Maintenance Records Check:
(i) Check the maintenance records to determine whether an Electro Mech part number (P/N) EM484-3 firewall shutoff or crossfeed valve with a serial number in the range of 148 through 302 is installed. The owner/operator holding at least a private pilot certificate as authorized by section 43.7 of the Federal Aviation Regulations (14 CFR 43.7) may perform this check (ii) If, by checking the maintenance records, the owner/operator can definitely show that no Electro Mech P/N EM484-3 firewall shutoff or crossfeed valves with a serial number in the range of 148 through 302 are installed, then the inspection requirement of paragraph (d)(2) and the replacement requirement of paragraph (d)(3) of this AD do not apply. You must make an entry into the aircraft records that shows compliance with these portions of the AD in accordance with section 43.9 of the Federal Aviation Regulations (14 CFR 43.9) (iii) If the pilot cannot definitely show that no affected firewall shutoff or crossfeed valves are installed through the maintenance records check, then the Inspection and Replacement requirements of paragraphs (d)(2) and (d)(3) of this AD must be accomplished by an appropriately-rated mechanic | Within the next 30 days after March 8, 2003 (the effective date of this AD), unless already accomplished | No special procedures required to check the maintenance records.
(2) Inspection: Inspect all Electro Mech P/N EM484-3 firewall shutoff and crossfeed valves to determine whether they incorporate a serial number in the range of 148 through 302 | Within the next 30 days after March 8, 2003 (the effective date of this AD), unless already accomplished | In accordance with the Accomplishment Instructions in PIAGGIO Aero Industries S.p.A. Alert Service Bulletin: 80-0173, Original Issue: February 8, 2002.
(3) Replacement: If any Electro Mech P/N EM484-3 firewall shutoff or crossfeed valve is found that incorporates a serial number in the range of 148 through 302, accomplish one of the following: (i) Install valve(s) that does not (do not) incorporate a serial number in the range of 148 through 302; or (ii) Modify any valve(s) that incorporates (incorporate) a serial number in the range of 148 through 302. The valve will be re-identified with an “A” at the end of the serial number | Accomplish any necessary replacements or modifications prior to further flight after the inspection required by paragraph (d)(2) of this AD, unless already accomplished | Replace in accordance with applicable maintenance manual. Modify in accordance with the Accomplishment Instructions in Piaggio Aero Industries S.p.A. Service Bulletin: 80-0174, Original Issue: February 20, 2002.
(4) Spares: Do not install, on any airplane, any Electro Mech P/N EM484-3 firewall shutoff or crossfeed valve that incorporates a serial number in the range of 148 through 302, unless it has been modified as specified in paragraph (d)(3)(ii) of this AD | As of March 8, 2003 (the effective date of this AD) | Not applicable.

(e) Can I comply with this AD in any other way? You may use an alternative method of compliance or adjust the compliance time if:

(1) Your alternative method of compliance provides an equivalent level of safety; and

(2) The Manager, Standards Office, Small Airplane Directorate, approves your alternative. Submit your request through an FAA Principal Maintenance Inspector, who may add comments and then send it to the Manager, Standards Office, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Piaggio Aero Industries S.p.A. Alert Service Bulletin: 80-0173, Original Issue: February 8, 2002; and Piaggio Aero Industries S.p.A. Service Bulletin: 80-0174, Original Issue: February 20, 2002. The Director of the Federal Register approved this incorporation by reference under 5 U.S.C. 552(a) and 1 CFR part 51. You may get copies from Piaggio Aero Industries S.p.A, Via Cibrario 4, 16154 Genoa, Italy; telephone: +39 010 6481 856; facsimile: +39 010 6481 374. You may view copies at the FAA, Central Region, Office of the Regional Counsel, 901 Locust, Room 506, Kansas City, Missouri, or at the Office of the Federal Register, 800 North Capitol Street, NW., suite 700, Washington, DC.

Note 2: The subject of this AD is addressed in Italian RAI-AD 2002-442, dated February 21, 2002.

(i) When does this amendment become effective? This amendment becomes effective on March 8, 2003.

Issued in Kansas City, Missouri, on January 22, 2003.
Michael Gallagher,
Manager, Small Airplane Directorate, Aircraft Certification Service.

[FR Doc. 03-2149 Filed 2-4-03; 8:45 am]

BILLING CODE 4910-13-P